DEPARTMENT OF COMMERCE

National Oceanic and Atmospheric Administration

50 CFR Part 660

RIN 0648-BA55

Fisheries Off West Coast States; West Coast Salmon Fisheries; Notice of Availability for Amendment 16 to the Salmon Fishery Management Plan

AGENCY: National Marine Fisheries Service (NMFS), National Oceanic and Atmospheric Administration (NOAA), Commerce.

ACTION: Availability of amendment to a fishery management plan; request for comments.

SUMMARY: NMFS announces that the Pacific Fishery Management Council (Council) has submitted Amendment 16 to the Pacific Coast Salmon Fishery Management Plan (FMP) for Secretarial review. Amendment 16 would modify the FMP to implement National Standard 1 Guidelines (NS1Gs) adopted by NMFS under the Magnuson-Stevens Fishery Conservation and Management Reauthorization Act (MSRA). These guidelines are intended to prevent and end overfishing and rebuild fisheries through implementation of status determination criteria, overfishing limits, annual catch limits, and accountability measures. Amendment 16 would also set new conservation objectives and de minimis fishing rate provisions.

DATES: Comments on Amendment 16 must be received on or before November 18, 2011.

ADDRESSES: You may submit comments, identified by NOAA-NMFS-2011-0227, by any one of the following methods:

• Electronic Submissions: Submit all electronic public comments via the Federal e-Rulemaking Portal http://www.regulations.gov. To submit comments via the e-Rulemaking Portal, first click the “Submit a Comment” icon, then enter NOAA-NMFS-2011-0227 in the keyword search. Locate the document you wish to comment on from the resulting list and click on the “Submit a Comment” icon on the right of that line.

• Mail: William W. Stelle, Jr., Regional Administrator, Northwest Region, NMFS, 7600 Sand Point Way, NE., Seattle, WA 98115-0070 or to Rod McInnis, Regional Administrator, Southwest Region, NMFS, 501 West Ocean Boulevard, Suite 4200, Long Beach, CA 90802-4213.

• Fax: 206-526-6736 Attn: Peggy Busby, or 562-980-4047 Attn: Heidi Taylor.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

Electronic copies of the amendment may be obtained from the Council Web site at http://pcouncil.org.

FOR FURTHER INFORMATION CONTACT: Peggy Busby at 206-526-4323, or Heidi Taylor at 562-980-4039.

SUPPLEMENTARY INFORMATION: The ocean salmon fisheries in the exclusive economic zone off Washington, Oregon, and California are managed under a “framework” fishery management plan entitled the Pacific Coast Salmon Fishery Management Plan (FMP). The Magnuson-Stevens Fishery Conservation and Management Reauthorization Act of 2006 (MSRA) requires that each regional fishery management council submit any FMP or plan amendment it prepares to NMFS for review and approval, disapproval, or partial approval. The MSRA also requires that NMFS, upon receiving an FMP or amendment, immediately publish a notice that the FMP or amendment is available for public review and comment. NMFS will consider the public comments received during the comment period described above in determining whether to approve Amendment 16 to the FMP.

On January 16, 2009 (74 FR 3178), NMFS adopted revisions to its guidelines implementing MSRA National Standard 1 (NS1Gs) to prevent and end overfishing and rebuild fisheries. In particular, the revised guidelines provide guidance on implementation of the new statutory requirement for annual catch limits (ACLs). The revised guidelines also include new requirements for accountability measures (AMs) and other provisions regarding preventing and ending overfishing and rebuilding fisheries. To comply with the statute and these new guidelines, Amendment 16 to the Salmon FMP would reorganize and classify stocks in the FMP to conform with requirements of the NS1Gs, to establish status determination criteria, establish a framework for defining reference points related to overfishing limits (OFL), acceptable biological catch (ABC), and annual catch limits (ACLs), and establish appropriate accountability measures (AM) necessary to prevent the ACLs from being exceeded, and to mitigate any overages that may occur. Amendment 16 would also set new conservation objectives for Klamath River fall Chinook salmon and Sacramento River fall Chinook salmon, and would specify de minimis fishing rate provisions to address management in years of low abundance. Other conservation objectives would also be revised and updated as needed to conform with the best available science.

NMFS welcomes comments on the proposed FMP amendment through the end of the comment period. A proposed rule to implement Amendment 16 has been submitted for Secretarial review and approval. NMFS expects to publish and request public review and comment on proposed regulations to implement Amendment 16 in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: September 14, 2011.
Steven Thur,
Acting Director, Office of Sustainable Fisheries, National Marine Fisheries Service.

[FR Doc. 2011-23988 Filed 9-16-11; 8:45 am]

BILLING CODE 3510-22-P